DEPARTMENT OF THE TREASURY

Internal Revenue Service

26 CFR Part 1

[REG-140206-06]

RIN-1545-BF93

Withholding Procedure Under Section 1441 for Certain Distributions to Which Section 302 Applies; Correction

AGENCY: Internal Revenue Service (IRS), Treasury.

ACTION: Correction to notice of proposed rulemaking.

SUMMARY: This document contains corrections to proposed regulations (REG-140206-06) that were published in the Federal Register on Wednesday, October 17, 2007 (72 FR 58781) regarding a withholding agent's obligation to withhold and report tax under Chapter 3 of the Internal Revenue Code when there is a distribution in redemption of stock of a corporation that is actively traded on an established financial market.

FOR FURTHER INFORMATION CONTACT: Kathryn Holman at (202) 622-3840 (not a”.

SUPPLEMENTARY INFORMATION:

Background

The notice of proposed rulemaking (REG-140206-06) that is the subject of this correction is under section 1441 of the Internal Revenue Code.

Need for Correction

As published, this notice of proposed rulemaking (REG-140206-06) contains an error that may prove to be misleading and is in need of clarification.

Correction of Publication

Accordingly, the notice of proposed rulemaking (REG-140206-06) that was the subject of FR Doc. E7-20504 is corrected as follows:

On page 58781, column 3, in the preamble, under the caption “FOR FURTHER INFORMATION CONTACT:”, line 2, the language “Kathryn Holman, (202) 622-3440 (not a” is corrected to read “Kathryn Holman, (202) 622-3840 (not a)”.

Cynthia Grigsby,
Senior Federal Register Liaison, Publications and Regulations Branch, Legal Processing Division, Associate Chief Counsel (Procedure and Administration).

[FR Doc. E7-21904 Filed 11-7-07; 8:45 am]

BILLING CODE 4830-01-P